NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 10, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-04-1, 9 items, 7 temporary items). Civil engineering records, including construction project case files and status reports, engineering specifications, and layout maps and architectural drawings of routine structures or projects. Proposed for permanent retention are recordkeeping copies of significant layout maps, architectural drawings of important structures or projects, and comprehensive plans at bases and installations. This schedule authorizes the agency to apply the proposed disposition instructions to any recordkeeping medium.

2. Department of the Army, Agency-wide (N1-AU-07-15, 4 items, 4 temporary items). Records relating to Army property accountability. Included are documents attesting to transfers of property accountability, waivers of property accountability requirements, and receipts acknowledging responsibility for Army property. This schedule authorizes the agency to apply the proposed disposition instructions to any recordkeeping medium.

3. Department of Defense, Defense Commissary Agency (N1-506-07-12, 3 items, 2 temporary items). Records pertaining to office management. Included are general correspondence files and documents designating postal workers as distribution clerks and control officers. Proposed for permanent retention are recordkeeping copies of internal agency publications such as directives. This schedule authorizes the agency to apply the proposed disposition instructions to any recordkeeping medium.

4. Department of Homeland Security, National Protection and Programs Directorate (N1-563-07-9, 1 item, 1 temporary item). Master file for an electronic information system which contains information used to prioritize restoration of telecommunications services to national security and emergency preparedness personnel after a crisis.

5. Department of Homeland Security, U.S. Citizenship and Immigration Services (N1-563-08-1, 10 items, 8 temporary items). Inputs, outputs, master files and documentation associated with an electronic information system used to collect, process, and track correspondence received from individuals and employers seeking assistance. Proposed for permanent retention in the form of outputs are annual reports to Congress and formal recommendations. This schedule authorizes the agency to apply the proposed disposition instructions to any recordkeeping medium, except for the master files.

6. Department of Homeland Security, United States Secret Service (N1-87-07-1, 23 items, 22 temporary items). Uniformed Division records, including Deputy Chief's general files, incident reports not involving protectees, briefing sheets, surveillance logs and reports, equipment logs, and alarm and intrusion detection reports. Proposed for permanent retention are recordkeeping copies of incident reports involving protectees.

7. Department of Justice, Bureau of Prisons (N1-129-07-15, 2 items, 2 temporary items). Staffing records and operating costs files used for budget purposes by the Administrative Division.

8. Department of Justice, Federal Bureau of Investigation (N1-65-07-19, 15 items, 15 temporary items). Records relating to the Human Resources Division's Student Loan Repayment Program system.

9. Department of Justice, Federal Bureau of Investigation (N1-65-07-20, 7 items, 7 temporary items). Inputs, outputs, master file, system documentation, audits, and system backups of the Counterterrorism Division analytical database.

10. Department of Justice, National Security Division (N1-60-07-5, 2 items, 1 temporary item). Case files relating to the Committee on Foreign Investment in the United States, chaired by the Department of the Treasury. Proposed for permanent retention are case files reviewed by the National Security Division.

11. Department of State, Bureau of Overseas Buildings Operations (N1-59-07-13, 1 item, 1 temporary item). Management Support Division renovation and reconfiguration project files. This schedule authorizes the agency to apply the proposed disposition instructions to any recordkeeping medium.

12. Department of Transportation, Federal Railroad Administration (N1-399-07-24, 3 items, 2 temporary items). Documents relating to the organization, mission, functions, relationships, and delegations of authority within the Federal Railroad Administration. Proposed for permanent retention are final copies of agency organization or reorganization plans and studies that were implemented.

13. Department of the Treasury, Bureau of the Public Debt (N1-53-08-1, 1 item, 1 temporary item). Copies of bulletins with supporting documents for the Office of Foreign Assets Control.

14. Department of the Treasury, Internal Revenue Service (N1-58-07-14, 17 items, 16 temporary items). Student records and course materials from the National Criminal Investigation Training Academy. Proposed for permanent retention are the original and master images in the training photographs collection.

15. Department of the Treasury, Internal Revenue Service (N1-58-07-15, 3 items, 3 temporary items). Electronic project files and working files of the Office of Program Evaluation and Risk Analysis related to strategic, budget, and program planning.

16. Department of the Treasury, United States Mint (N1-104-07-1, 3 items, 1 temporary item). Copies of correspondence initiated by and for the signature of the Mint's Director, Deputy Director, and high level Departmental officials. Proposed for permanent retention are official copes of correspondence maintained by the Executive Secretariat.

17. Board of Governors of the Federal Reserve System (N1-82-07-1, 9 items, 2 temporary items). Draft transcripts and preliminary audio records of oral history interviews. Proposed for permanent retention are other oral history records for the agency, including final transcripts of interviews, final recordings, statements of purpose and disclaimer, project interview agreements, policies and procedures, interview lists, and briefing packets. This schedule authorizes the agency to apply the proposed disposition instructions to any recordkeeping medium.

18. Consumer Product Safety Commission, Directorate for Epidemiology (N1-424-07-1, 3 items, 1 temporary item). Output data associated with an electronic information system used to collect information on deaths involving consumer products. Proposed for permanent retention are the master file and system documentation.

19. Federal Maritime Commission, Bureau of Enforcement (N1-358-07-4, 1 item, 1 temporary item). Master file for an electronic information system which provides an index to investigated companies and individuals and links these names to subject terms and associated paper case files.

20. Federal Maritime Commission, Bureau of Enforcement (N1-358-07-5, 1 item, 1 temporary item). Master file for an electronic information system which provides case management for investigations.

21. Federal Maritime Commission, Bureau of Enforcement (N1-358-07-6, 5 items, 5 temporary items). Records of investigative case files and related enforcement documentation, settlement agreement files, and formal proceedings docket files and reading files. This schedule authorizes the agency to apply the proposed disposition instructions to any recordkeeping medium. Paper copies of formal proceedings docket files and reading files were previously approved for disposal.

Dated: November 1, 2007.
Michael J. Kurtz,
Assistant Archivist for Records Services, Washington, DC.

[FR Doc. E7-21922 Filed 11-7-07; 8:45 am]

BILLING CODE 7515-01-P